FEDERAL COMMUNICATIONS COMMISSION

[Report No. 2473]

Petitions for Reconsideration and Clarification of Action in Rulemaking Proceedings

March 20, 2001.

Petitions for Reconsideration and Clarification have been filed in the Commission's rulemaking proceedings listed in this Public Notice and published pursuant to 47 CFR Section 1.429(e). The full text of these documents are available for viewing and copying in Room CY-A257, 445 12th Street, SW., Washington, DC or may be purchased from the Commission's copy contractor, ITS, Inc. (202) 857-3800. Oppositions to these petitions must be filed by April 12, 2001. See Section 1.4(b)(1) of the Commission's rules (47 CFR 1.4(b)(1)). Replies to an opposition must be filed within 10 days after the time for filing oppositions have expired.

Subject: Review of the Commission's Regulations Governing Television Broadcasting (MM Docket No. 91-221, MM Docket No. 87-8).

Television Satellite Stations Review of Policy and Rules.

Number of Petitions Filed: 1.

Subject: Review of the Commission's Rules and Policies Affecting the Conversion to Digital Television (MM Docket No. 00-39).

Number of Petitions Filed: 17.

Subject: Deployment of Wireline Services Offering Advanced Telecommunications Capability (CC Docket No. 98-147).

and

Implementation of the Local Competition Provisions of the Telecommunications Act of 1996 (CC Docket No. 96-98).

Number of Petitions Filed: 2.

Subject: Amendment of the Commission's Rules with Regard to the 3650-3700 MHz Government Transfer band (ET Docket No. 98-237, RM-9411).

The 4.9 GHz Band Transferred from Federal Government Use (WT Docket No. 00-32).

Number of Petitions Filed: 4.

Subject: Petition by the United States Department of Transportation for Assignment of an Abbreviated Dialing Code (N11) to Access Intelligent Transportation System (ITS) Services Nationwide.

Request by the Alliance of Information and Referral Systems, United Way of America, United Way 211 (Atlanta, Georgia) United Way of Connecticut, Florida Alliance of Information and Referral Services, Inc., and Texas I&R Network for Assignment of 211 Dialing Code.

The Use of N11 Codes and Other Abbreviated Dialing Arrangements (CC Docket No. 92-105).

Number of Petitions Filed: 6.

Subject: Implementation of the Satellite Home Viewer Improvement Act of 1999 (CS Docket No. 00-96).

Broadcast Signal Carriage Issues.

Number of Petitions Filed: 2.

Subject: Application of Bidding Credits in the Interactive Video and Data Services Auction (WT Docket No. 98-169, RM-8951).

Number of Petitions Filed: 1.

Subject: Numbering Resource Optimization (CC Docket No. 99-200).

Petition for Declaratory Ruling and Request for Expedited Action on the July 15, 1997 Order of the Pennsylvania Public Utility Commission Regarding Area Codes 412, 610, 215 and 717 (CC Docket No. 96-98).

Number of Petitions Filed: 12.

Subject: Replacement of Part 90 by Part 88 to Revise the Private Land Mobile Radio Services and Modify the Policies Governing Them (PR Docket No. 92-235).

Examination of Exclusivity and Frequency Assignment Policies of the Private Land Mobile Services.

Number of Petitions Filed: 2.

Subject: Creation of a Low Power Radio Service (MM Docket No. 99-25, RM 9208, RM-9242).

Number of Petitions Filed: 1.

Federal Communications Commission.
Magalie Roman Salas,
Secretary.

[FR Doc. 01-7578 Filed 3-27-01; 8:45 am]

BILLING CODE 6712-01-M